DEPARTMENT OF DEFENSE

Department of the Navy

[Docket ID: USN-2015-HQ-0017]

Privacy Act of 1974; System of Records

AGENCY: Department of the Navy, DoD.

ACTION: Notice to add a new System of Records.

SUMMARY: The Department of the Navy proposes to add a new system of records, N05220-1, entitled “Data Warehouse Business Intelligence System (DWBIS)” to be used as a management tool for statistical analysis, tracking, reporting, and to increase program effectiveness; to direct the workforce education, training, skills, and experience needed to develop and deploy key Information Dominance systems for Naval and DoD programs assigned to this Command; and to analyze the correct staffing needed for key products supported by the Command. This system of records will rely on selected information collected from other authorized personnel and financial systems of records to manage the development of its Acquisition Workforce, Cyber Security, and Information Dominance workforce.

DATES: Comments will be accepted on or before January 22, 2016. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy notices for systems of records subject to the Privacy Act of 1974 (5 U.S.C. 552a), as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on December 15, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2015.
Aaron Siegel,
Alternate OSD Federal Register Liaison Officer, Department of Defense.

N05220-1

SYSTEM NAME:

Data Warehouse Business Intelligence System (DWBIS).

SYSTEM LOCATION:

Space and Naval Warfare (SPAWAR) Systems Center Atlantic, Building 3148, 1 Innovation Drive, Hanahan, SC 29410-4200.

CATEGORIES OF INDIVIDUALS COVERED BY THE SYSTEM:

Naval service members assigned to SPAWAR Systems Center Atlantic and government employees (to include employees outside the Contiguous United States) and government contractors directly supporting SPAWAR Systems Center Atlantic.

CATEGORIES OF RECORDS IN THE SYSTEM:

Name, work mailing address, DoD ID Number, employee ID number, Common Access Card (CAC) ID Number, Navy Enterprise Resource Planning (ERP) employee ID number, military rank or government grade, employee series and grade, date reported to command, work location, organizational code, organizational group, supervisor and their contact numbers, position title and pay plan, Defense Acquisition Workforce coursework planned or completed, position level and continuous learning points required, cyber security workforce membership including credentials, certifications held, and expiration date; contracting officer's representative status, certifications achieved, demonstrated proficiency levels earned under internal Competency Development Model, projects or portfolio work assigned, credentials held on entry to the Mid-Career Leadership Program, last personnel action (SF-50), nominations for award(s); education information includes college courses applied for, college degrees held and institutions attended, professional certifications held; employee promotion(s), overseas tour begin and end date, number of years at current tour end, Navy ERP transactions executed or approved by the individual.

Contractor's information includes current provisioning in Navy ERP by name and unique ID, government sponsor, and whether they are a current member of the command's cyber security workforce for reporting purposes.

AUTHORITY FOR MAINTENANCE OF THE SYSTEM:

10 U.S.C. 5013, Secretary of the Navy; 10 U.S.C Chapter 87, Defense Acquisition Workforce; DoD 5200.2-R, Department of Defense Personnel Security Program; DoDD 8570.1-M, Information Assurance Workforce Improvement Program; and SECNAV M-5510.30, Department of Navy Personnel Security Program.

PURPOSE(S):

This system is primarily be used as a management tool for statistical analysis, tracking, reporting, and to increase program effectiveness. To direct the workforce education, training, skills, and experience needed to develop and deploy key Information Dominance systems for Naval and DoD programs assigned to this Command. To analyze the correct staffing needed for key products supported by the Command. This system of records will rely on selected information collected from other authorized personnel and financial systems of records to manage the development of its Acquisition Workforce, Cyber Security, and Information Dominance workforce.

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained therein may specifically be disclosed outside the DoD as a routine use pursuant to 5 U.S.C. 552a (b)(3) as follows:

Disclosure of information is in response to a specific inquiry from a member of Congress, or a committee, joint committee, or subcommittee of either entity to the extent of matter within its jurisdiction.

The DoD Blanket Routine Uses set forth at the beginning of the Department of the Navy's compilation of systems of records notices may apply to this system. The complete list of DoD blanket routine uses can be found online at: http://dpcld.defense.gov/Privacy/SORNsIndex/BlanketRoutineUses.aspx.

POLICIES AND PRACTICES FOR STORING, RETRIEVING, ACCESSING, RETAINING, AND DISPOSING OF RECORDS IN THE SYSTEM:

STORAGE:

Electronic storage media.

RETRIEVABILITY:

Records are retrieved primarily by name, mailing/home address, DoD ID Number, employee ID number, and/or unique ID.

SAFEGUARDS:

Electronic records have data at rest encryption and access is restricted to authorized users holding specific electronic credentials and have a need to know. Physical access to terminals, terminal rooms, buildings, and surroundings are controlled by locked terminals and rooms, guards, personnel screening, and visitor registers.

RETENTION AND DISPOSAL:

Records are maintained for 1 year or when abstracted, or consolidated, whichever is earlier. Records are destroyed by overwriting with new data or burning, erasing, or degaussing of the hard drive.

SYSTEM MANAGER(S) AND ADDRESS:

SPAWAR Systems Center Atlantic 80, Chief Engineer, 1837 Morris Street, Suite 3109B, Norfolk, VA 23511-3498.

NOTIFICATION PROCEDURE:

Individuals seeking to determine whether this system of records contains information about themselves should address written and signed inquiries to SPAWAR Systems Center Atlantic, Code 80E, 1837 Morris Street Suite 3109B, Norfolk, VA 23511-3498.

The requester must provide their full name, mailing/home address, DoD ID Number, and/or employee ID number.

The system manager may require a DoD Public Key Infrastructure (PKI) signed email as a means of proving the identity of the individual requesting access to the records.

For separated or retired employees, the system manager may require an original signature or a notarized signature and the last organizational code worked for while in the Command as a means of proving the identity of the individual requesting access to the records.

RECORD ACCESS PROCEDURES:

Individuals seeking access to records about themselves contained in this system of records should address written and signed inquiries to SPAWAR Systems Center Atlantic, Code 80E, 1837 Morris Street, Suite 3109B, Norfolk, VA 23511-3498.

The requester must provide their full name, mailing/home address, DoD ID Number, and/or employee ID number.

The system manager may require a DoD Public Key Infrastructure (PKI) signed email as a means of proving the identity of the individual requesting access to the records.

For separated or retired employees, the system manager may require an original signature or a notarized signature and the last organizational code worked for while in the Command as a means of proving the identity of the individual requesting access to the records.

CONTESTING RECORD PROCEDURES:

The Navy's rules for accessing records, and for contesting contents and appealing initial agency determinations are published in Secretary of the Navy Instruction 5211.5; 32 CFR part 701; or may be obtained from the system manager.

RECORD SOURCE CATEGORIES:

SPAWAR Personnel and Administrators, Navy Enterprise Resource Planning (Navy ERP), Total Workforce Management Services (TWMS), Department of the Navy Civilian Authoritative Data Source (DONCADS) and DoD Defense Civilian Personnel Data System (DCPDS).

EXEMPTIONS CLAIMED FOR THE SYSTEM:

None.

[FR Doc. 2015-32311 Filed 12-22-15; 8:45 am]

BILLING CODE 5001-06-P